DEPARTMENT OF AGRICULTURE

Submission for OMB Review; Comment Request

December 5, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Welfare, Part 3, Subparts B and C, Guinea Pigs, Hamsters, and Rabbits.

OMB Control Number: 0579-0092.

Summary of Collection: The Laboratory Animal Welfare Act (AWA) enacted in 1966 and amended in 1970 and 1985 requires the U.S. Department of Agriculture to regulate the humane care and handling of most warm-blooded animals used for research or exhibition purposes, sold as pets, or transported in commerce. The Animal and Plant Health Inspection Service (APHIS) has the responsibility for enforcing the Animal Welfare Act and its provisions. APHIS collects information and requires certain recordkeeping in order to review and evaluate program compliance by regulated facilities and ensure a workable enforcement system to carry out the requirements of the AWA. Specific information requirements relate to certifications of shipping containers used to transport guinea pigs, hamsters, and rabbits as well as the conditions (e.g., temperature) necessary during transport, and acclimation certificates.

Need and Use of the Information: APHIS collects information from regulated facilities including dealers, exhibitors, and research facilities, intermediate handlers and carriers, and from accredited veterinarians to ensure proper handling and care for guinea pigs, hamsters, and rabbits. Without this information, APHIS would be unable to detect violations and take appropriate actions consistent with the AWA.

Description of Respondents: Business or other for-profit.

Number of Respondents: 1,470.

Frequency of Responses: Recordkeeping; Reporting: On occasion.

Total Burden Hours: 260.

Ruth Brown,
Departmental Information Collection Clearance Officer.

[FR Doc. E5-7104 Filed 12-8-05; 8:45 am]

BILLING CODE 3410-34-P